DEPARTMENT OF THE INTERIOR

Bureau of Land Management

[BLM_CA_FRN_MO4500180553]

Notice of Public Meetings of the Central California Resource Advisory Council

AGENCY: Bureau of Land Management, Interior.

ACTION: Notice of public meetings.

SUMMARY: In accordance with the Federal Land Policy and Management Act and the Federal Advisory Committee Act, the U.S. Department of the Interior, Bureau of Land Management's (BLM) Central California Resource Advisory Council (RAC) will meet as follows.

DATES: The Central California RAC will hold virtual public meetings on Wednesday, September 11, 2024, from 8:30 a.m. to 2:15 p.m. Pacific Time (PT), with a public comment period scheduled for 1:45 p.m. PT; and on Wednesday, February 5, 2025, from 8:30 a.m. to 12:30 p.m. PT, with a public comment period scheduled for 12:00 p.m. PT; and an in-person meeting on Wednesday, May 8, 2025, from 8:30 a.m. to 2:15 p.m. PT, with a public comment period scheduled for 1:45 p.m. PT. A field tour will be held on May 7, 2025, from 12:30 p.m. to 5 p.m. PT. The meetings and field tour are open to the public.

ADDRESSES: Meeting links, final agendas, and participation instructions will be made available to the public via social media, the BLM Central California RAC's website at https://go.usa.gov/xH9ya, and through personal contacts 2 weeks prior to the meetings. The May 7, 2025, field tour will commence and conclude, and the May 8, 2025, in-person meeting will be held, at the BLM Bakersfield Field Office, 35126 McMurtrey Avenue, Bakersfield, CA 93308.

FOR FURTHER INFORMATION CONTACT: Public Affairs Officer, Philip Oviatt, email: poviatt@blm.gov or telephone: (661) 432-4252. Individuals in the United States who are deaf, deafblind, hard of hearing, or have a speech disability may dial 711 (TTY, TDD, or TeleBraille) to access telecommunications relay services. Individuals outside the United States should use the relay services offered within their country to make international calls to the point-of-contact in the United States. For sign language interpretation services, language translation services, assistive listening devices, or other reasonable accommodations, please contact the individual listed above at least 14 business days before the meeting to ensure there is sufficient time to process the request. The Department of the Interior manages accommodation requests on a case-by-case basis.

SUPPLEMENTARY INFORMATION: The chartered 12-member Central California RAC advises the Secretary of the Interior, through the BLM California State Director, on planning and management of public land resources located within the jurisdictional boundaries of the RAC. Agenda topics for the September 11, 2024, meeting include a briefing on Alabama Hills Management Plan implementation as well as an update on the Bi-State Sage Grouse program. The RAC will also hear reports from the district and field offices. In addition, the RAC will hear a fee proposal from the United States Department of Agriculture (USDA) Forest Service for sites in the Inyo National Forest. Agenda topics for the February 5, 2025, meeting include a briefing on habitat and watershed restoration projects in the Mother Lode Field Office. The RAC will also be briefed on fuels reduction projects as well as briefings from the district and field offices, including a wildland fire update.

On May 7, 2025, the RAC will tour the Diablo Canyon Fuels Reduction Project with partners in San Luis Obispo County. Members of the public are welcome to participate in the field tour but must provide their own transportation and meals. Agenda topics for the May 8, 2025, meeting include the Bakersfield Fuels Reduction Program, and the RAC will receive an update on the Bakersfield Oil and Gas Program. The RAC will also hear reports from the district and field offices. In addition, the RAC will hear a fee proposal from the USDA Forest Service for a site in the Los Padres National Forest. Members of the public who wish to participate in the field tour must provide their own transportation and meals.

Each formal RAC meeting will have time allocated for public comments. Depending on the number of persons wishing to speak and the time available, the amount of time for oral comments may be limited. Written public comments may be sent to the BLM Central California District Office listed in the ADDRESSES section of this notice. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Detailed minutes for the RAC meetings will be maintained in the BLM Central California District Office. Minutes will also be posted to the BLM California RAC web page.

Authority: 43 CFR 1784.4-2.

Christopher Rocker Heppe,
Central California District Manager.

[FR Doc. 2024-17604 Filed 8-7-24; 8:45 am]

BILLING CODE 4331-15-P